DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Women's Physical Activity and Healthy Eating Tools Assessment: NEW

The HRSA Office of Women's Health (OWH) developed the Bright Futures for Women's Health and Wellness (BFWHW) Initiative to help expand the scope of women's preventive health activities, particularly related to nutrition and physical activity. An intermediate assessment of the BFWHW health promotion consumer materials related to physical activity and healthy eating will be conducted in order to assess how the BFWHW materials can stimulate a conversation on physical activity and healthy eating during a clinical encounter, inform future BFWHW programming, and add to the peer-reviewed literature regarding women's health and wellness initiatives.

Towards this end, anonymous assessment forms will be used to collect data from young and adult women clients, health care providers, and administrators of health centers. Data collected will include process and outcome measures. Data domains include: the distribution and use of the materials in the health care setting during wellness and health maintenance/check-up visits; client and provider awareness of physical activity and nutrition behaviors; attitudes about the importance of physical activity and nutrition; self-efficacy; and increase in knowledge and intent to change physical activity and nutrition behaviors.

A total of six organizations, which may include Federally Qualified Health Centers/Community Health Centers, faith-based organizations that offer health care services, worksite health centers, and school-based health clinics, will be selected for the study. Young women will complete anonymous assessment forms at school-based health centers; adult women will be assessed at other health care organizations. The providers at these sites will also be asked to complete a brief one-time anonymous assessment form. Telephone interviews will be conducted with an administrator of each of these sites as well. The data collection period at each site is estimated to last four months. The estimated response burden is as follows:

Data collection activity | Estimated Data Collection Burden Hours: Number of respondents | Estimated Data Collection Burden Hours: Hours per response | Estimated Data Collection Burden Hours: Responses per respondent | Estimated Data Collection Burden Hours: Total burden hours | Hourly wage rate | Total cost
Clients | 3,000 | .81 | 1 | 2,430 | $5.15 | $12,514.50
Administrators | 6 | 4.22 | 1 | 25 | 37.09 | 927.25
Support Staff | 6 | 63.67 | 1 | 382 | 13.65 | 5,214.30
Providers | 60 | 5.98 | 1 | 359 | 59.15 | 21,234.85
Total | 3,072 |  |  | 3,196 |  | 39,890.90

Written comments and recommendations concerning the proposed information collection should be sent within 30 days of this notice to: Karen Matsuoka, Human Resources and Housing Branch, Office of Management and Budget, New Executive Office Building, Room 10235, Washington, DC 20503.

Dated: May 4, 2007.
Caroline Lewis,
Associate Administrator for Management.

[FR Doc. E7-9011 Filed 5-9-07; 8:45 am]

BILLING CODE 4165-15-P